DEPARTMENT OF ENERGY

Federal Energy Regulatory Commission

Combined Notice of Filings #1

August 10, 2006.

Take notice that the Commission received the following exempt wholesale generator filings:

Docket Numbers: EG06-70-000.

Applicants: White Creek Wind I, LLC.

Description: White Creek Wind I, LLC submits a Notice of Self-Certification of Exempt Wholesale Generator Status.

Filed Date: 08/04/2006.

Accession Number: 20060810-0056.

Comment Date: 5 p.m. Eastern Time on Friday, August 25, 2006.

Take notice that the Commission received the following electric rate filings:

Docket Numbers: ER02-2119-005; ER06-1189-001.

Applicants: Southern California Edison Company.

Description: Southern California Edison Company submits a Motion for Leave to Answer and Answer to the Protests of Coral Power.

Filed Date: 08/04/2006.

Accession Number: 20060804-5082.

Comment Date: 5 p.m. Eastern Time on Friday, August 25, 2006.

Docket Numbers: ER04-776-007.

Applicants: PJM Interconnection, LLC.

Description: Public Utilities Commission of Ohio submits a State Certification in which they make certain representations and warranties regarding its legal obligations and those of its authorized representatives.

Filed Date: 08/04/2006.

Accession Number: 20060807-0108.

Comment Date: 5 p.m. Eastern Time on Friday, August 25, 2006.

Docket Numbers: ER05-1050-003.

Applicants: AmerGen Energy Company LLC.

Description: Refund Report of AmerGen Energy Company in Compliance with Commission's June 28, 2006 Order under ER05-1050.

Filed Date: 08/04/2006.

Accession Number: 20060804-5063.

Comment Date: 5 p.m. Eastern Time on Friday, August 25, 2006.

Docket Numbers: ER06-95-001.

Applicants: Pacific Gas & Electric Company.

Description: Pacific Gas and Electric Company submits a compliance electric refund report pursuant to the Commission's 6/9/06 Order.

Filed Date: 08/09/2006.

Accession Number: 20060809-5040.

Comment Date: 5 p.m. Eastern Time on Wednesday, August 30, 2006.

Docket Numbers: ER05-1050-001.

Applicants: MinnDakota Wind LLC.

Description: MinnDakota Wind LLC submits its response in Compliance with Commission's July 5, 2006 Order.

Filed Date: 08/04/2006.

Accession Number: 20060810-0079.

Comment Date: 5 p.m. Eastern Time on Friday, August 25, 2006.

Docket Numbers: ER06-1051-003.

Applicants: Midwest Independent Transmission System.

Description: Midwest Independent Transmission System Operator Inc. submits the supplemental information requested in FERC's 7/5/06 deficiency letter.

Filed Date: 08/04/2006.

Accession Number: 20060808-0147.

Comment Date: 5 p.m. Eastern Time on Friday, August 25, 2006.

Docket Numbers: ER06-1308-001.

Applicants: Midwest Independent Transmission System Operator, Inc.

Description: Midwest Independent Transmission System Operator, Inc. submits its errata to their 7/31/06 filing.

Filed Date: 08/08/2006.

Accession Number: 20060810-0057.

Comment Date: 5 p.m. Eastern Time on Tuesday, August 29, 2006.

Docket Numbers: ER06-1320-000.

Applicants: Wisconsin Electric Power Company.

Description: Wisconsin Electric Power Co. submits its proposed increase in the rates charges to certain of its wholesale customers.

Filed Date: 08/01/2006.

Accession Number: 20060803-0074.

Comment Date: 5 p.m. Eastern Time on Friday, September 01, 2006.

Docket Numbers: ER06-1325-000.

Applicants: Pacific Gas & Electric Company.

Description: Pacific Gas and Electric Company submits a request of approval for proposed rate changes for wholesale and retail electric transmission rates etc, effective 10/1/06.

Filed Date: 08/01/2006.

Accession Number: 20060810-0105.

Comment Date: 5 p.m. Eastern Time on Tuesday, August 22, 2006.

Docket Numbers: ER06-1346-000.

Applicants: White Creek Wind I, LLC.

Description: White Creek Wind I, LLC submits its application for order accepting Market-Based Rate Tariff, granting authorizations and blanket authority and waiving certain requirements, FERC Electric Tariff, Original Volume 1.

Filed Date: 08/04/2006.

Accession Number: 20060810-0054.

Comment Date: 5 p.m. Eastern Time on Friday, August 25, 2006.

Take notice that the Commission received the following public utility holding company filings:

Docket Numbers: PH06-48-000.

Applicants: Legg Mason, Inc.

Description: Legg Mason Inc. submits additional information to its 5/5/2006 pursuant to the Commission's Order issued 6/30/06.

Filed Date: 08/01/2006.

Accession Number: 20060802-0117.

Comment Date: 5 p.m. Eastern Time on Tuesday, August 22, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive E-mail notification when a document is added to a subscribed dockets(s). For assistance with any FERCOnline service, please E-mail FERCOnlineSupport@ferc.gov. or call (866) 208-3676 (toll free). For TTY, call (202) 502-8659.

Magalie R. Salas,
Secretary.

[FR Doc. E6-13541 Filed 8-16-06; 8:45 am]

BILLING CODE 6717-01-P